DEPARTMENT OF HEALTH AND HUMAN SERVICES

Centers for Medicare & Medicaid Services

[Document Identifier: CMS-10398 #72]

Medicaid and Children's Health Insurance Program (CHIP) Generic Information Collection Activities: Proposed Collection; Comment Request

AGENCY: Centers for Medicare & Medicaid Services, Health and Human Services (HHS).

ACTION: Notice.

SUMMARY: On May 28, 2010, the Office of Management and Budget (OMB) issued Paperwork Reduction Act (PRA) guidance ¹ related to the “generic” clearance process. Generally, this is an expedited process by which agencies may obtain OMB's approval of collection of information requests that are “usually voluntary, low-burden, and uncontroversial collections,” do not raise any substantive or policy issues, and do not require policy or methodological review. The process requires the submission of an overarching plan that defines the scope of the individual collections that would fall under its umbrella. On October 23, 2011, OMB approved our initial request to use the generic clearance process under control number 0938-1148 (CMS-10398). It was last approved on April 26, 2021, via the standard PRA process which included the publication of 60- and 30-day Federal Register notices. The scope of the April 2021 umbrella accounts for Medicaid and CHIP State plan amendments, waivers, demonstrations, and reporting. This Federal Register notice seeks public comment on one or more of our collection of information requests that we believe are generic and fall within the scope of the umbrella. Interested persons are invited to submit comments regarding our burden estimates or any other aspect of this collection of information, including: The necessity and utility of the proposed information collection for the proper performance of the agency's functions, the accuracy of the estimated burden, ways to enhance the quality, utility and clarity of the information to be collected, and the use of automated collection techniques or other forms of information technology to minimize the information collection burden.

¹ https://www.whitehouse.gov/sites/whitehouse.gov/files/omb/assets/inforeg/PRA_Gen_ICRs_5-28-2010.pdf.

DATES: Comments must be received by August 13, 2021.

ADDRESSES: When commenting, please reference the applicable form number (see below) and the OMB control number (0938-1148). To be assured consideration, comments and recommendations must be submitted in any one of the following ways:

1. Electronically. You may send your comments electronically to http://www.regulations.gov. Follow the instructions for “Comment or Submission” or “More Search Options” to find the information collection document(s) that are accepting comments.

To obtain copies of a supporting statement and any related forms for the proposed collection(s) summarized in this notice, you may access CMS' website at https://www.cms.gov/Regulations-and-Guidance/Legislation/PaperworkReductionActof1995/PRA-Listing.html.

FOR FURTHER INFORMATION CONTACT: William N. Parham at (410) 786-4669.

SUPPLEMENTARY INFORMATION: Following is a summary of the use and burden associated with the subject information collection(s). More detailed information can be found in the collection's supporting statement and associated materials (see ADDRESSES).

Generic Information Collection

1. Type of Information Collection Request: New collection: Title of Information Collection: Expressions of Interest in the Infant Well-Child Visit Affinity Group; Use: To improve the use and quality of well-child visits for Medicaid and CHIP beneficiaries ages 0 to 12 months, CMS has launched the Infant Well-Child Visit Learning Collaborative Affinity Group. The affinity group will provide technical assistance to state Medicaid and CHIP agencies and their partners through group workshops and one-on-one meetings. Quality improvement (QI) advisors and subject matter experts will provide state teams with individualized guidance, including QI tools, to identify, implement, and test change ideas to improve infant well-child visits and then scale those changes that prove successful.

Many infants do not receive the recommended number of infant well-child visits. Reasons for missing visits include lack of transportation, work responsibilities, lack of childcare, and other social stressors. The COVID-19 pandemic has exacerbated the number of missed well-child visits, with 21 percent fewer (4.6 million) child screening services provided between March through October 2020, compared to the same period in 2019. Because Medicaid and CHIP cover nearly 40 percent of all children, focusing on well-child visits is an opportunity for state Medicaid and CHIP programs to improve overall attendance and quality of infant well-child visits and to reduce disparities in well-infant care. When children receive the recommended number of high-quality visits, they are more likely to be up-to-date on immunizations, have developmental concerns recognized early, and are less likely to visit the emergency department. Form Number: CMS-10398 (#72) (OMB control number: 0938-1148); Frequency: Once; Affected Public: State, Local, or Tribal Governments; Number of Respondents: 56; Total Annual Responses: 20; Total Annual Hours: 140. (For policy questions regarding this collection contact Kristen Zycherman at 410-786-6974.)

Dated: July 26, 2021.
William N. Parham, III
Director, Paperwork Reduction Staff, Office of Strategic Operations and Regulatory Affairs.

[FR Doc. 2021-16208 Filed 7-29-21; 8:45 am]

BILLING CODE 4120-01-P